DEPARTMENT OF AGRICULTURE

Office of Inspector General

7 CFR Part 2620

Availability of Information to the Public

AGENCY: Office of Inspector General, USDA.

ACTION: Final rule.

SUMMARY: The U.S. Department of Agriculture (USDA), Office of Inspector General (OIG) amends its regulation relating to the availability of its information to the public. The amendments are necessary to update its regulation in order to reflect reorganizations within OIG.

DATES: Effective December 23, 2016.

FOR FURTHER INFORMATION CONTACT: Christy Slamowitz, Counsel to the Inspector General, U.S. Department of Agriculture, 1400 Independence Avenue SW., Room 441-E, Washington, DC 20250-2308, Telephone: (202) 720-9110.

SUPPLEMENTARY INFORMATION: The regulations regarding USDA OIG's processing of requests for information under the Freedom of Information Act (FOIA), 5 U.S.C. 552, were last published in 1995 (60 FR 52842). Since that time, OIG has had several internal reorganizations. As part of those reorganizations, OIG's FOIA program was transferred from OIG's defunct Office of Policy Development and Resources Management to OIG's Office of Counsel. In order to provide the public with current information regarding which OIG office processes FOIA requests, OIG is amending these regulations, which supplement USDA's FOIA regulations at subpart A of part 1 of this title, including the appendix.

Administrative Procedure Act

This rule relates to agency organization and internal agency management. Pursuant to 5 U.S.C. 553(A), such rules are not subject to the requirement to provide public notice of proposed rulemaking and opportunity for public comment. Therefore, notice and comment before the effective date are being waived.

Executive Orders 12866 and 13563

OIG has reviewed this rule to ensure its consistency with the regulatory philosophy and principles set forth in Executive Orders 12866 and 13563. OIG has determined that this rule is non-significant within the meaning of Executive Order 12866. Therefore, this rule is not required to be and has not been reviewed by the Office of Management and Budget (OMB).

Regulatory Flexibility Act

These regulations will not have a significant economic impact on a substantial number of small entities. Therefore, a regulatory flexibility analysis as provided by the Regulatory Flexibility Act, as amended, is not required.

Executive Order 12291

This rule relates to internal agency organization and management. Therefore, it is exempt from the provisions of Executive Order 12291.

Paperwork Reduction Act

These proposed regulations impose no additional reporting and recordkeeping requirements. Therefore, clearance by OMB is not required.

Federalism (Executive Order 13132)

This rule does not have Federalism implications, as set forth in Executive Order 13132. It will not have substantial direct effects on the States, on the relationship between the national government and the States, or on the distribution of power and responsibilities among the various levels of government.

Congressional Review Act

OIG has determined that this rule is not a major rule as defined by the Congressional Review Act, 5 U.S.C. 804.

List of Subjects in 7 CFR Part 2620

Freedom of information.

For the reasons set forth in the preamble, OIG amends 7 CFR chapter XXVI by revising part 2620 to read as follows:

PART 2620—AVAILABILITY OF INFORMATION TO THE PUBLIC

Sec.
2620.1 General statement.
2620.2 Public inspection.
2620.3 Requests.
2620.4 Denials.
2620.5 Appeals.

Authority: 5 U.S.C. 301, 552; Inspector General Act of 1978, as amended, 5 U.S.C. app. 3.

§ 2620.1 General statement.

This part supplements the regulations of the Secretary of Agriculture implementing the Freedom of Information Act, 5 U.S.C. 552 (FOIA) (subpart A of part 1 of this title, including the appendix), and governs the availability of records of the Office of Inspector General (OIG) to the public upon request.

§ 2620.2 Public inspection.

The FOIA requires that certain materials be made available for public inspection in an electronic format. OIG records are available for public inspection on OIG's public Web site, https://www.usda.gov/oig/foia.htm.

§ 2620.3 Requests.

Requests for OIG records shall be submitted to OIG's Office of Counsel and will be processed in accordance with subpart A of part 1 of this title. Specific guidance on how to submit requests (including current contact methods) is available through OIG's Web site, https://www.usda.gov/oig/foiareq.htm, and USDA's public FOIA Web site.

§ 2620.4 Denials.

If it is determined that a requested record is exempt from mandatory disclosure and that discretionary release would be improper, the Counsel to the Inspector General or the Counsel's designee shall give written notice of denial in accordance with subpart A of part 1 of this title.

§ 2620.5 Appeals.

The denial of a requested record may be appealed in accordance with subpart A of part 1 of this title. Appeals shall be addressed to the Inspector General, U.S. Department of Agriculture, 1400 Independence Avenue SW., Whitten Building, Suite 441-E, Washington, DC 20250-2308. The Inspector General will give notice of the determination concerning an appeal in accordance with subpart A of part 1 of this title.

Dated: December 15, 2016.
Phyllis K. Fong,
Inspector General.

[FR Doc. 2016-30803 Filed 12-22-16; 8:45 am]

BILLING CODE 3410-23-P